DEPARTMENT OF THE INTERIOR

Fish and Wildlife Services

Notice of Receipt of Applications for Endangered Species Recovery Permit

AGENCY: Fish and Wildlife Service, Interior.

ACTION: Notice of receipt of permit applications.

SUMMARY: The following applicants have applied for a scientific research permit to conduct certain activities with endangered species pursuant to section 10(a)(1)(A) of the Endangered Species Act of 1973, as amended (16 USC 1531 et seq.). The U.S. Fish and Wildlife Service solicits review and comment from local, State, and Federal agencies, and the public on the following permit requests.

DATES: Written comments on these permit applications must be received within 30 days of the date of publication of this notice.

ADDRESSES: Written data or comments should be submitted to the Chief, Endangered Species, Ecological Services, U.S. Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

SUPPLEMENTARY INFORMATION:

Permit No. TE-026092

Applicant: Paul Kephart, Carmel Valley, California. The permittee requests an amendment to remove/reduce to possession the Erysimum menziesii (Menzies' wallflower) in conjunction with restoration efforts in Monterey County, California for the purpose of enhancing its survival.

Permit No. TE-057714

Applicant: Dawn Reis, Santa Cruz, California. The applicant request a permit to take (harass by survey, capture, and release) the tidewater goby (Eucyclogobius newberryi) in conjunction with surveys in Santa Cruz, Monterey, San Benito, and San Luis Obispo Counties, California for the purpose of enhancing its survival.

Permit No. TE-056801

Applicant: Alan Roy Wilkins, Middleton, Massachusetts. The applicant requests a permit to purchase, in interstate commerce, captive bred Hawaiian (=nene) geese (Nesochen [=Branta] sandvicensis) for the purpose of enhancing the species propagation and survival. This notification covers activities conducted by the applicant over the next 5 years.

Permit No. 056955

Applicant: Morro Estuary Greenbelt Alliance, Incorporated. The permittee request an amendment to take (locate and capture) the Morro shoulderband snail (Helminthoglypta walkeriana) in conjunction with habitat enhancement in San Luis Obispo, California for the purpose of enhancing its survival.

Dated: June 12, 2002.
Carolyn A. Bohan,
Regional Director, Region 1, Portland, Oregon.

[FR Doc. 02-16798 Filed 7-3-02; 8:45 am]

BILLING CODE 4310-55-M